DEPARTMENT OF ENERGY

Federal Energy Regulatory Commission

Notice of Site Visit; Notice of Scoping Period

September 6, 2001.

Take notice that on October 11, 2001, the Commission staff will visit the Fowler #7 Hydroelectric Project No. 6059, to view the project area.

a. Type of Application: New Minor License.

b. Project No.: P-6059-006.

c. Date Filed: January 2, 2001.

d. Applicant: Hydro Development Group, Inc.

e. Name of Project: Fowler #7.

f. Location: On the Oswegatchie River in St. Lawrence County, near the town of Gouverneur, New York.

g. Filed Pursuant to: Federal Power Act 16 U.S.C. 791(a)-825(r).

h. Applicant Contact: Kevin M. Webb, Hydro Development Group, Inc., 200 Bulfinch Drive, Andover, MA 01810, (978) 681-1900 ext. 1214.

i. FERC Contact: Charles T. Raabe (202) 219-2811 or e-mail address at Charles.Raabe@FERC.fed.us.

j. Deadline Date: 60 days from the date of issuance of this notice.

All documents (original and eight copies) should be filed with: David P. Boergers, Secretary, Federal Energy Regulatory Commission, 888 First Street, NE, Washington, DC 20426. Copies of this filing are on file with the Commission and are available for public inspection. Comments, protests and interventions may be filed electronically via the Internet in lieu of paper. See, 18 CFR 385.2001(a)(1)(iii) and the instructions on the Commission's web site under the “e-Filing” link.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Description of Project: The existing, operating Fowler #7 Project consists of: (1) A concrete gravity-type dam surmounted by flashboards comprising; (i) the 75-foot-long, 25-foot-high Dam #1; (ii) the 192-foot-long, 20-foot-high Dam #2; and (iii) the 154-foot-long, 15-foot-high Dam #3; (2) a reservoir with a 3.0-acre surface area and a gross storage volume of 30-acre-feet at normal water surface elevation 542 feet NGVD; (3) an intake structure with trashracks; (4) a powerhouse containing three, 300-kW generating units for a total installed capacity of 900-kW; (5) a 1,000-kVA 2.3/23-kV transformer; (6) a 4,000-foot-long, 23-kV overhead transmission line; (7) a tailrace; and (8) appurtenant facilities. The applicant estimates that the total average annual generation would be 6.0 MWh. All generated power is sold to Niagara Mohawk Power Corporation.

l. Locations of the Application: A copy of the application is available for inspection or reproduction at the Commission's Public Reference and Files Maintenance Branch, located at 888 First Street, NE., Room 2A-1, Washington, DC 20426, or by calling (202) 208-2326. Copies of this filing are on file with the Commission and are available for public inspection. This filing may also be viewed on the web at http://www.ferc.gov using the “RIMS” link, select “Docket#” and follow the instructions (call 202-208-2222 for assistance). A copy is also available for inspection and reproduction at the Hydro Development Group, Inc., 200 Bulfinch Drive, Andover, MA 01810, (978) 681-1900 ext. 1214.

m. Status of the Application and Environmental Analysis: This application has been accepted for filing, but it is not ready for environmental analysis.

n. Site visit: On October 11, the participants will meet at 9:00 a.m. at the Hailesboro #4 powerhouse. Those interested in participating should contact Mr. Kevin Webb at (978) 681-1900 ext. 1214 in advance. Participants should provide their own transportation for the site visit. Further, for the October 11 site visit, participants should bring their own lunches, water, and boots.

o. Scoping: Scoping Document 1 has been mailed. It provides information on the Hailesboro #4 and Fowler #7 Projects, the environmental analysis process we will follow to prepare the EA, and our preliminary identification of issues that we will address in the EA. Comments and suggestions on the issues we have identified are encouraged and should be filed by the deadline identified in paragraph (j) above.

David P. Boergers,
Secretary.

[FR Doc. 01-22900 Filed 9-11-01; 8:45 am]

BILLING CODE 6717-01-P